FEDERAL COMMUNICATIONS COMMISSION

47 CFR Part 73

[MB Docket No. 13-316; RM-11693; DA 13-52]

Radio Broadcasting Services; Matagorda, TX

AGENCY: Federal Communications Commission.

ACTION: Proposed rule.

SUMMARY: In this document the Commission requests comment on a petition filed by Tejas Broadcasting Ltd., LLP (“Petitioner”), licensee of FM Station KMJR, Channel 252C2, Odem, Texas. Petitioner proposes to amend the FM Table of Allotments by substituting Channel 291A for vacant Channel 252A, at Matagorda. The proposal is part of a contingently filed “hybrid” application and rule making petition. Channel 291A can be allotted at Matagorda, Texas, in compliance with the Commission's minimum distance separation requirements, at city reference coordinates of 28-41-25 NL and 95-58-02 WL, without site restriction. Concurrence by the Government of Mexico is required because Matagorda, Texas, is located within 320 kilometers (199 miles) of the U.S.-Mexican border. See Supplementary Information infra.

DATES: Comments must be filed on or before April 22, 2013, and reply comments must be filed on or before May 7, 2013.

ADDRESSES: You may submit comments, identified by MB Docket No 13-52, by any of the following methods:

• Federal Communications Commission's Web site: http://fjallfoss.fcc.gov/ecfs2/. Follow the instructions for submitting comments.

• People with disabilities: Contact the FCC to request reasonable accommodations (accessible format documents, sign language interpreters, CART, etc.) by email: FCC504@fcc.gov or phone: 202-418-0530 or TTY: 202-418-0432.

For detailed instructions for submitting comments and additional information of the rulemaking process, see the SUPPLEMENTARY INFORMATION sections of this document. In addition to filing comments with the FCC, interested parties should serve counsel for petitioner as follows: Robert B. Jacobi, Esq., Cohn and Marks LLP, 1920 N Street NW., Suite 300, Washington, DC 20036.

FOR FURTHER INFORMATION CONTACT: Deborah A. Dupont, Media Bureau (202) 418-7072.

SUPPLEMENTARY INFORMATION: This is a synopsis of the Commission's Notice of Proposed Rule Making, MB Docket No. 13-52, adopted February 28, 2013, and released March 1, 2013. The full text of this Commission decision is available for inspection and copying during normal business hours in the FCC Reference Information Center (Room CY-A257), 445 12th Street SW., Washington, DC 20554. The complete text of this decision may also be purchased from the Commission's copy contractor, Best Copy and Printing, Inc., 445 12th Street SW., Room CY-B402, Washington, DC 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR Part 73 as follows:

PART 73—RADIO BROADCAST SERVICES

1. The authority citation for part 73 continues to read as follows:

Authority: 47 U.S.C. 154, 303, 334, 336 and 339.

§ 73.202 [Amended]

2. Section 73.202(b), the Table of FM Allotments under Texas, is amended by removing 252A and adding 291A at Matagorda.

[FR Doc. 2013-08282 Filed 4-9-13; 8:45 am]

BILLING CODE 6712-01-P